DEPARTMENT OF VETERANS AFFAIRS

Advisory Committee on Disability Compensation; Notice of Meeting Cancellation

The Department of Veterans Affairs gives notice under the Federal Advisory Committee Act that the meeting of the Advisory Committee on Disability Compensation, previously scheduled to be held at the Department of Veterans Affairs, 1800 G. Street NW., Conference Room 870, Washington, DC 20006, on September 12-13, 2017, has been cancelled.

For more information, please contact Stacy Boyd, Designated Federal Officer, Department of Veterans Affairs, Veterans Benefits Administration, Compensation Service, Policy Staff at (202) 461-9580 or via email at Stacy.Boyd@va.gov.

Dated: September 5, 2017.
Jelessa M. Burney,
Federal Advisory Committee Management Officer.

[FR Doc. 2017-19040 Filed 9-7-17; 8:45 am]

BILLING CODE 8320-01-P